DEPARTMENT OF JUSTICE

Notice of Lodging of Consent Decree Under the Comprehensive Environmental Response, Compensation and Liability Act (“CERCLA”)

Notice is hereby given that on October 17, 2005, a proposed Consent Decree in United States and State of Texas v. BP AMOCO Chemical Company, et al., Civil Action No. 4:05-cv-03547, was lodged with the United States District Court for the Southern District of Texas.

In this action the United States and the State of Texas (“State”) sought natural resource damages as a result of the release of hazardous substances from the Brio Refining, Inc. (“Brio”) Superfund Site and the Dixie Oil Processors (“Dixie” or “DOP”) Superfund Site pursuant to the Comprehensive Environmental Response, Compensation and Liability Act (“CERCLA”). The Brio and DOP Superfund Sites are located near the Town of Friendswood in Harris County, Texas.

Under the Consent Decree, BP AMOCO Chemical Co., Atlantic Richfield Co., Allied Waste industries, Chevron Chemical Co., Total Petrochemicals USA, Inc., GE Petrochemicals, Inc., CNA Holdings, Inc., Huntsman Corp., Pharmacia Corp., Union Carbide Corp., The Dow Chemical Co., Merichem Co., Rohm and Haas Co., and Lyondell Chemical Co. (“Defendants”) will undertake (1) the preservation of at least 100 acres of bottomland hardwood forest habitat, including at least 30 acres in the 100-year flood plain along Mud Gully and Clear creek, (2) the re-colonization of 19 acres of former pasture with native vegetation, and (3) the creation of six acres of riparian wetland in the vicinity of the Superfund Sites. The companies also will pay the State and federal trustees approximately $347,000 in past assessment costs and estimated future restoration costs.

The Department of Justice will receive for a period of thirty (30) days from the date of this publication comments relating to the proposed Consent Decree. Comments should be addressed to the Assistant Attorney General, Environment and natural Resources Division, P.O. Box 7611, U.S. Department of Justice, Washington, DC 20044-7611, and should refer to United States v. BP AMOCO Chemical Company. et al., D.J. Ref. No. 90-11-2-325/1.

The Consent Decree may be examined during the public comment period on the following Department of Justice Web site: http://www.usdoj.gov/enrd/open.html. A copy of the Consent Decree may also be obtained by mail from the Consent Decree Library, P.O. Box 7611, U.S. Department of Justice, Washing, DC 20044-7611 or by faxing or e-mailing a request to Tonia Fleetwood (tonia.fleetwood@usdoj.gov), fax no. (202) 514-0097, phone confirmation number (202) 514-1547. In requesting a complete copy of the consent Decree from the Consent Decree Library, please enclose a check in the amount of $37.25 (25 cents per page reproduction cost) payable to the U.S. Treasury. In requesting a copy of the Consent Decree, exclusive of exhibits and defendants' signatures, please enclose a check in the amount of $12.25 (25 cents per page reproduction cost) payable to the U.S. Treasury.

Thomas A. Mariani,
Assistant Section Chief, Environmental Enforcement Section, Environment and Natural Resources Division.

[FR Doc. 05-21881 Filed 11-1-05; 8:45 am]

BILLING CODE 4410-15-M